FEDERAL COMMUNICATIONS COMMISSION

[OMB 3060-1246]

Information Collection Approved by the Office of Management and Budget (OMB)

AGENCY: Federal Communications Commission.

ACTION: Notice.

SUMMARY: The Federal Communications Commission (FCC) has received Office of Management and Budget (OMB) approval for the following public information collections pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Office of the Managing Director, at (202) 418-2991, or email: Nicole.Ongele@fcc.gov.

SUPPLEMENTARY INFORMATION: The total annual reporting burdens and costs for the respondents are as follows:

OMB Control Number: 3060-1246.

OMB Approval Date: October 23, 2017.

OMB Expiration Date: October 31, 2020.

Title: Reasonable Accommodation Requests.

Form Nos.: FCC Form 5626 and FCC Form 5627.

Respondents: Individuals.

Number of Respondents and Responses: 60 respondents; 60 responses.

Estimated Time per Response: 5 hours for FCC Form 5626 and 0.16 hours for FCC Form 5627.

Frequency of Response: One-time reporting requirement.

Total Annual Burden: 312 hours.

Total Annual Cost: $900.

Obligation to Respond: Voluntary. Statutory authority for these collections are contained in 29 U.S.C. 791; Executive Order 13164 65 FR 46565 (Jul 28, 2000).

Privacy Act Impact Assessment: The FCC is drafting a Privacy Impact Assessment to cover the personally identifiable information (PIA) that will be collected, used, and stored.

Nature and Extent of Confidentiality: There is no need for confidentiality with this collection of information.

Needs and Uses: FCC employees and applicants for employment who have a condition that qualifies as a disability may seek an accommodation to perform the essential functions of their position by completing FCC Form 5626 and FCC Form 5627.

Federal Communications Commission.
Marlene H. Dortch,
Secretary, Office of the Secretary.

[FR Doc. 2017-24615 Filed 11-13-17; 8:45 am]

BILLING CODE 6712-01-P